CONSUMER PRODUCT SAFETY COMMISSION

[CPSC Docket No. 22-1]

Notice of Prehearing Conference

AGENCY: Consumer Product Safety Commission.

ACTION: Notice.

SUMMARY: Notice of prehearing conference for In the Matter of Leachco, Inc.; CPSC Docket No. 22-1.

DATES: Friday, April 22, 2022 at 1:00 p.m. Eastern Time.

ADDRESSES: This event will be held remotely.

FOR FURTHER INFORMATION CONTACT: Alberta E. Mills, Consumer Product Safety Commission, Office of the General Counsel, Division of the Secretariat, cpsc-os@cpsc.gov; 240-863-8938; 301-504-7479.

SUPPLEMENTARY INFORMATION: The text of the Presiding Officer's April 4, 2022 Order Scheduling Prehearing Conference appears below.

Authority: Consumer Product Safety Act, 15 U.S.C. 2064.

Dated: April 5, 2022.
Alberta E. Mills,
Secretary, Consumer Product Safety Commission.

FEDERAL MINE SAFETY AND HEALTH REVIEW COMMISSION

Office of the Chief Administrative Law Judge 1331 Pennsylvania Ave. NW, Suite 520N, Washington, DC 20004-1710, Telephone: 202-434-9950, Fax: 202-434-9949

April 4, 2022

In the Matter of LEACHCO, INC., CPSC Docket No. 22-1

Respondent.

Order Scheduling Prehearing Conference

This proceeding commenced with the filing of a complaint on February 9, 2022. The complaint was published in the Federal Register on February 16, 2022. 87 FR 8,733, 8,804 (Feb. 16, 2022). An interagency agreement for the loan of my services to the Consumer Product Safety Commission was finalized on February 25, 2022. On March 17, 2022, the Chair of the CPSC appointed me as the presiding officer for this proceeding.

Under 16 CFR 1025.21, an initial prehearing conference shall be held within fifty days of the publication of the complaint in the Federal Register unless “unusual circumstances would render it impractical or valueless” to do so. Due to the timing of my appointment and the public notice requirement, holding a prehearing conference within fifty days of publication is impossible, and therefore impractical. A prehearing conference shall be held as follows:

Date: Friday, April 22, 2022.

Time: 1:00 p.m. Eastern Time.

Means: Zoom [link provided to those listed in Distribution].

Before the prehearing conference, the parties must confer and discuss the issues listed in 16 CFR 1025.21(a)(1) through (14). The parties should also discuss a plan for discovery and whether there are issues as to preservation, retrieval, review, disclosure, or production of discoverable information, including issues as to the disclosure or discovery of electronically stored information. The parties should have prepared for the conference, a summary of their discussion as well as proposed procedures and deadlines. The parties should also report whether they have discussed settlement and, if so, whether they believe settlement is possible or likely.

The CPSC should arrange for a court reporter for the prehearing conference. I direct that notice of this conference be published in the Federal Register. 16 CFR 1025.21(b) (2022).

Distribution

Leah Ippolito, U.S. Consumer Product Safety Commission, 4330 East West Highway, Bethesda, MD 20814, lippolito@cpsc.gov

Brett Ruff, U.S. Consumer Product Safety Commission, 4330 East West Highway, Bethesda, MD 20814, bruff@cpsc.gov

Rosalee Thomas, U.S. Consumer Product Safety Commission, 4330 East West Highway, Bethesda, MD 20814, rbthomas@cpsc.gov

Caitlin O'Donnell, U.S. Consumer Product Safety Commission, 4330 East West Highway, Bethesda, MD 20814, codonnell@cpsc.gov

Cheryl A. Falvey, Crowell & Moring LLP, 1001 Pennsylvania Avenue NW, Washington, DC 20004, cfalvey@crowell.com

Bettina J. Strauss, Bryan Cave Leighton Paisner LLP, One Metropolitan Square, 211 North Broadway, Suite 3600, St. Louis, MO 63102, bjstrauss@bclplaw.com

Nina E. DiPadova, U.S. Consumer Product Safety Commission, 4330 East West Highway, Bethesda, MD 20814, ndipadova@cpsc.gov

Alberta E. Mills, U.S. Consumer Product Safety Commission, 4330 East West Highway, Bethesda, MD 20814, amills@cpsc.gov

[FR Doc. 2022-07550 Filed 4-7-22; 8:45 am]

BILLING CODE 6355-01-P